DEPARTMENT OF ENERGY

Energy Information Administration

Agency Information Collection Extension

AGENCY: U.S. Energy Information Administration (EIA), Department of Energy.

ACTION: Agency Information Collection Activities: Information Collection Extension; Notice and Request for Comments.

SUMMARY: The EIA, pursuant to the Paperwork Reduction Act of 1995, intends to extend for three years with the Office of Management and Budget (OMB), Form EIA-846, “Manufacturing Energy Consumption Survey.” Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before July 22, 2014. If you anticipate difficulty in submitting comments within that period, contact the person listed in ADDRESSES as soon as possible.

ADDRESSES: Written comments may be sent to Tom Lorenz, Office of Energy Consumption and Efficiency Statistics, EI-22, Forrestal Building, U.S. Department of Energy, 1000 Independence Ave. SW., Washington, DC 20585 or by fax at (202) 586-9753, or by email at Thomas.Lorenz@eia.gov.

FOR FURTHER INFORMATION CONTACT: Requests for additional information or copies of the information collection instrument and instructions should be directed to Tom Lorenz at the address listed above. To view the form online please go to: http://www.eia.gov/survey/notice/consumption_mecs2014.cfm.

SUPPLEMENTARY INFORMATION: This information collection request contains:

(1) OMB No.: 1905-0169;

(2) Information Collection Request Title: Manufacturing Energy Consumption Survey (MECS);

(3) Type of Request: Reinstatement, with change, of a previously approved collection for which approval has expired;

(4) Purpose:

The Federal Energy Administration Act of 1974 (15 U.S.C. 761 et seq.) and (42 U.S.C. 7135(i)) require the EIA to carry out a centralized, comprehensive, and unified energy information program. This program collects, evaluates, assembles, analyzes, and disseminates information on energy resource reserves, production, demand, technology, and related economic and statistical information. This information is used to assess the adequacy of energy resources to meet near and longer term domestic demands and to promote sound policymaking, efficient markets, and public understanding of energy and its interaction with the economy and the environment.

The Manufacturing Energy Consumption Survey (MECS) is a self-administered sample survey designed to collect energy consumption and expenditures data from establishments in the manufacturing sector; i.e., North American Industry Classification System (NAICS) codes 31-33. Previous MECS required multiple collection forms depending on an establishment's primary business activity classification under NAICS. The increased use of technology by means of an Internet data collection system however, has allowed the MECS to eliminate the need to have multiple forms.

The 2014 MECS will collect information during 2015 for business activities in calendar year 2014, and the 2016 MECS, if implemented, will collect information during 2017 for business activities in calendar year 2016. For the 2014 and 2016 MECS, as in the past, EIA proposes to collect the following data from each MECS establishment: (1) For each energy source consumed—consumption (total, fuel and nonfuel uses) and the expenditures for each energy source, energy storage (as applicable), energy produced onsite, and shipments (as applicable); (2) energy end uses; (3) fuel-switching capabilities (4) general energy-saving technologies; (5) energy management activities; and (6) square footage, and number of buildings in the establishment.

The MECS has been conducted eight times previously, covering the years 1985, 1988, 1991, 1994, 1998, 2002, 2006, and 2010. In all eight survey years, the MECS has collected baseline data on manufacturers' energy consumption and expenditures. The MECS collected data on fuel-switching capabilities in all years except 1998. In the 1991, 1994, 1998, 2002, 2006, and 2010 surveys, the MECS also collected data on end-uses, energy management activities, building square footage, and energy-saving technologies.

The MECS information is the basis for data and analytic products that can be found at http://www.eia.gov/consumption/manufacturing. Also on this Web site are past publications, articles, and a special analytic series, “Industry Analysis Briefs.” The 2014 and 2016 MECS will also be used to benchmark EIA's industry forecasting model and update changes in the energy intensity and greenhouse gases data series.

The proposed 2014 and 2016 MECS uses experience gained from the administration and processing of the seven previous surveys and past consultations with respondents, trade association representatives, and data users to improve the survey.

Please refer to the forms and instructions for more information about the purpose, who must report, when to report, where to submit, the elements to be reported, detailed instructions, provisions for confidentiality, and uses of the information. For instructions on obtaining materials, see the “For Further Information Contact” section;

(4a) Proposed Changes to Information Collection:

EIA proposes making several changes from the 2010 MECS for use in the 2014 and 2016 MECS. The first substantial change for the 2014 and 2016 MECS is shortening the collection time frame. The past MECS cycles, going back to 1988, have been quadrennial surveys; however with the increased importance of relevant energy data, EIA is proposing to shorten the collection time frame from a quadrennial to a biennial survey. This change doubles the response burden because EIA would be collecting two rounds of data from respondents under this OMB clearance number.

In the past EIA has calculated the amount of petrochemical feedstocks and asphalt that are produced by a refinery and used elsewhere in manufacturing. To obtain more accurate estimates of these two energy sources EIA proposes collecting data about petrochemical feedstocks and asphalt. The data collected about petrochemical feedstocks and asphalt will be largely what the MECS collects about other energy sources; purchases, expenditures, transfers in, produced on-site, used as fuel and nonfuel, and shipments data. Petrochemical feedstocks and asphalt are used in a few industries, so the MECS will collect data about these energy sources from those NAICS codes that use this type of energy; namely, petrochemical manufacturing (NAICS 325110), asphalt paving mixture and block manufacturing (NAICS 324121), and asphalt shingle and coating materials manufacturing (NAICS 324122). The response burden will be kept to a minimum because the data collected about petrochemical feedstocks and asphalt will only be collected from the industries listed above.

EIA is working with the Advanced Manufacturing Office (AMO) at DOE to reform the questions in the Energy Management and General Technologies sections on the MECS. The data collected would help EIA and DOE to develop manufacturing energy efficiency improvements. These will be “Yes”/“No” questions that will not significantly affect response burden.

Further, EIA plans to ask iron and steel mills (NAICS 331111) about their use of blast furnaces and electric arc furnaces (EAF) at the establishment. This will help EIA identify whether an iron and steel mill is an integrated or a mini mill, and help determine if all the essential energy data has been collected from the establishment. These will be “Yes”/“No” questions that will not significantly affect response burden.

Besides the changes already discussed, the content of the 2014 and 2016 MECS will be largely unchanged from the 2010 survey. Most respondents will submit their data electronically in a question-answer format as opposed to the spreadsheet format used in the past. The MECS information products will continue to present industry-by-Census Region level data as well as national data;

(5) Annual Estimated Number of Respondents: 31,000;

(6) Annual Estimated Number of Total Responses: 10,333;

(7) Annual Estimated Number of Burden Hours: 95,160;

(8) Annual Estimated Reporting and Recordkeeping Cost Burden: EIA estimates that there are no additional costs to respondents associated with the survey other than the costs associated with the burden hours;

Statutory Authority: Section 13(b) of the Federal Energy Administration Act of 1974, Pub. L. 93-275, codified at 15 U.S.C. 772(b).

Issued in Washington, DC, on May 16, 2014.
Stephen Harvey,
Assistant Administrator of Energy Statistics, U.S. Energy Information Administration.

[FR Doc. 2014-12008 Filed 5-22-14; 8:45 am]

BILLING CODE 6450-01-P